DEPARTMENT OF JUSTICE

[OMB Number 1121-0309]

Agency Information Collection Activities; Proposed eCollection eComments Requested; Revision of a Previously Approved Collection; Title: International Terrorism Victim Expense Reimbursement Program Application

AGENCY: Civil Division, Department of Justice.

ACTION: 60-Day notice.

SUMMARY: The Office of Justice Programs, Office for Victims of Crime, Department of Justice (DOJ), will be submitting the following information collection request to the Office of Management and Budget (OMB) for review and approval in accordance with the Paperwork Reduction Act of 1995.

DATES: Comments are encouraged and will be accepted for 60 days until January 26, 2026.

FOR FURTHER INFORMATION CONTACT: If you have additional comments, especially on the estimated public burden or associated response time, suggestions, or need a copy of the proposed information collection instrument with instructions or additional information, please contact Victoria Jolicoeuir, U.S. Department of Justice, 999 North Capitol Street NE, Washington DC 20531 at (202) 5983612 or victoria.jolicoeur@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Information collection form for individuals applying for compensation under the Radiation Exposure Compensation Act.

Overview of This Information Collection

1. Type of Information Collection: Revision of a previously approved collection.

2. The Title of the Form/Collection: International Terrorism Victim Expense Reimbursement Program (ITVERP) Application.

3. The agency form number, if any, and the applicable component of the Department sponsoring the collection: OMB #1121-0309 DOJ Component: Office of Justice Programs.

4. Affected public who will be asked or required to respond, as well as a brief abstract: Primary: Individuals victims, surviving family members of personal representatives. Other: Federal Government. This application will be used to apply for the expense reimbursement by U.S. nationals and U.S. Government employees who are victims of acts of international terrorism that occur (red) outside of the United States. The application will be used to collect necessary information on the expenses incurred by the applicant, as associated with his or her victimization, as well as other pertinent information, and will be used by OVC to make an award determination.

5. Obligation to Respond: Voluntary but required to obtain a benefit.

6. Total Estimated Number of Respondents: Estimated 51 respondents will complete the certification.

7. Estimated Time per Respondent: 120 minutes.

8. Frequency: Once.

9. Total Estimated Annual Time Burden: 75 hours.

10. Total Estimated Annual Other Costs Burden: $0.

If additional information is required contact: Darwin Arceo, Department Clearance Officer, United States Department of Justice, Justice Management Division, Enterprise Portfolio Management, Two Constitution Square, 145 N Street NE, 4W-218, Washington, DC.

Dated: November 21, 2025.
Darwin Arceo,
Department Clearance Officer for PRA, U.S. Department of Justice.

[FR Doc. 2025-20972 Filed 11-24-25; 8:45 am]

BILLING CODE 4410-18-P